DEPARTMENT OF ENERGY

Federal Energy Regulatory Commission

Combined Notice of Filings

Take notice that the Commission has received the following Natural Gas Pipeline Rate and Refund Report filings:

Filings Instituting Proceedings

Docket Numbers: CP21-502-000.

Applicants: Midcontinent Express and Enable Oklahoma.

Description: Joint Abbreviated Application of Midcontinent Express Pipeline LLC and Enable Oklahoma Intrastate Transmission, LLC for Partial Lease Capacity Abandonment Authorization.

Filed Date: 09/28/21.

Accession Number: 20210928-5083.

Comments Due: 5 p.m. ET 10/19/21.

Docket Numbers: RP21-1151-000.

Applicants: Young Gas Storage Company, Ltd.

Description: Compliance filing: Operational Purchase and Sale Report 2021 to be effective N/A.

Filed Date: 9/28/21.

Accession Number: 20210928-5042.

Comments Due: 5 p.m. ET 10/12/21.

Docket Numbers: RP21-1152-000.

Applicants: Transcontinental Gas Pipe Line Company, LLC.

Description: § 4(d) Rate Filing: Negotiated Rates—ESS—Six One Commodities to be effective 10/1/2021.

Filed Date: 9/28/21.

Accession Number: 20210928-5063.

Comments Due: 5 p.m. ET 10/12/21.

Docket Numbers: RP21-1153-000.

Applicants: El Paso Natural Gas Company, L.L.C.

Description: § 4(d) Rate Filing: Negotiated Rate Agreement Update (APS Oct 2021) to be effective 10/1/2021.

Filed Date: 9/28/21.

Accession Number: 20210928-5075.

Comments Due: 5 p.m. ET 10/12/21.

Docket Numbers: RP21-1154-000.

Applicants: Enable Gas Transmission, LLC.

Description: § 4(d) Rate Filing: Enable Gas Transmission, LLC submits tariff filing per 154.403(d)(2): Fuel Tracker Filing—Effective November 1 2021 to be effective 11/1/2021.

Filed Date: 9/28/21.

Accession Number: 20210928-5081.

Comments Due: 5 p.m. ET 10/12/21.

Docket Numbers: RP21-1155-000.

Applicants: Enable Mississippi River Transmission, LLC.

Description: § 4(d) Rate Filing: 2021 MRT Annual Fuel Filing to be effective 11/1/2021.

Filed Date: 9/28/21.

Accession Number: 20210928-5082.

Comments Due: 5 p.m. ET 10/12/21.

Docket Numbers: RP21-1156-000.

Applicants: Texas Eastern Transmission, LP.

Description: Compliance filing: Appalachia to Market Project (CP20-436) In-Service Compliance Filing to be effective 11/1/2021.

Filed Date: 9/28/21.

Accession Number: 20210928-5098.

Comments Due: 5 p.m. ET 10/12/21.

Docket Numbers: RP21-1157-000.

Applicants: Tennessee Gas Pipeline Company, L.L.C.

Description: § 4(d) Rate Filing: Pipeline Safety and Greenhouse Gas Cost Adjustment Mechanism—2021 to be effective 11/1/2021.

Filed Date: 9/28/21.

Accession Number: 20210928-5120.

Comments Due: 5 p.m. ET 10/12/21.

Docket Numbers: RP21-1158-000.

Applicants: Tennessee Gas Pipeline Company, L.L.C.

Description: § 4(d) Rate Filing: Volume No. 2—ConEd SP367660 & NextEra SP370331 to be effective 11/1/2021.

Filed Date: 9/28/21.

Accession Number: 20210928-5125.

Comments Due: 5 p.m. ET 10/12/21.

Docket Numbers: RP21-1159-000.

Applicants: Eastern Gas Transmission and Storage, Inc.

Description: § 4(d) Rate Filing: EGTS—2021 Annual EPCA to be effective 11/1/2021.

Filed Date: 9/29/21.

Accession Number: 20210929-5016.

Comments Due: 5 p.m. ET 10/12/21.

Docket Numbers: RP21-1160-000.

Applicants: Eastern Gas Transmission and Storage, Inc.

Description: § 4(d) Rate Filing: EGTS—2021 Annual TCRA to be effective 11/1/2021.

Filed Date: 9/29/21.

Accession Number: 20210929-5020.

Comments Due: 5 p.m. ET 10/12/21.

Docket Numbers: RP21-1161-000.

Applicants: Stagecoach Pipeline & Storage Company LLC.

Description: § 4(d) Rate Filing: Re-collation Filing to be effective 11/1/2021.

Filed Date: 9/29/21.

Accession Number: 20210929-5024.

Comments Due: 5 p.m. ET 10/12/21.

Docket Numbers: RP21-1162-000.

Applicants: Arlington Storage Company, LLC.

Description: § 4(d) Rate Filing: Re-Collation Filing to be effective 11/1/2021.

Filed Date: 9/29/21.

Accession Number: 20210929-5031.

Comments Due: 5 p.m. ET 10/12/21.

Docket Numbers: RP21-1163-000.

Applicants: Algonquin Gas Transmission, LLC.

Description: Compliance filing: AGT 2021 OFO Penalty Disbursement Report to be effective N/A.

Filed Date: 9/29/21.

Accession Number: 20210929-5032.

Comments Due: 5 p.m. ET 10/12/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2021.
Debbie-Anne A. Reese,
Deputy Secretary.

[FR Doc. 2021-21703 Filed 10-4-21; 8:45 am]

BILLING CODE 6717-01-P